JUDICIAL CONFERENCE OF THE UNITED STATES

Hearings of the Judicial Conference Advisory Committees on Rules of Appellate, Civil, and Criminal Procedure

AGENCY: Judicial Conference of the United States Advisory Committees on Rules of Appellate, Civil, and Criminal Procedure.

ACTION: Notice of cancellation and change of date of open hearings.

SUMMARY: The following public hearings have been canceled:

• Appellate Rules in San Francisco, California, on January 29, 2001;

• Civil Rules in San Francisco, California, on January 29, 2001; and

• Criminal Rules in New Orleans, Louisiana, on January 24, 2001; and in San Francisco, California, on January 29, 2001.

The following public hearing has a change of date:

• Criminal Rules in Washington, D.C., from February 12, 2001 to April 25, 2001.

(Original notice of hearings appeared in the Federal Register of September 13, 2000.)

Notice of Cancellation and Change of Date of Hearings

FOR FURTHER INFORMATION CONTACT: John K. Rabiej, Chief, Rules Committee Support Office, Administrative Office of the United States Courts, Washington, DC. 20544, telephone (202) 502-1820.

Dated: January 19, 2001.
John K. Rabiej,
Chief, Rules Committee Support Office.

[FR Doc. 01-2216 Filed 1-24-01; 8:45 am]

BILLING CODE 2210-55-M